DEPARTMENT OF DEFENSE

Office of the Secretary

[Transmittal No. 22-31]

Arms Sales Notification; Withdrawal

AGENCY: Defense Security Cooperation Agency, Department of Defense (DoD).

ACTION: Arms sales notice; withdrawal.

SUMMARY: On Thursday, June 6, 2024, the DoD published the unclassified text of an arms sales notification in the Federal Register. The published notice contained a Policy Justification for the North Atlantic Treaty Organization (NATO) and a Policy Justification for the Taipei Economic and Cultural Representative Office in the United States (TECRO). The Policy Justification for NATO was erroneously included. DoD is withdrawing the notice and will resubmit a corrected TECRO notice for publication at a later date.

FOR FURTHER INFORMATION CONTACT: Neil Hedlund at neil.g.hedlund.civ@mail.mil or (703) 697-9214.

SUPPLEMENTARY INFORMATION: The arms sales notification at 89 FR 48416-48418 that published in the Federal Register on Thursday, June 6, 2024 is withdrawn. A corrected notice will be resubmitted for publication at a later date.

Dated: July 9, 2024.
Aaron T. Siegel,
Alternate OSD Federal Register Liaison Officer, Department of Defense.

[FR Doc. 2024-15367 Filed 7-11-24; 8:45 am]

BILLING CODE 6001-FR-P